DEPARTMENT OF JUSTICE

[OMB Number 1105-0094]

Agency Information Collection Activities; Proposed eCollection eComments Requested; Revision of a Currently Approved Collection; Comments Requested: Title—Special Deputation Forms

AGENCY: U.S. Marshals Service, Department of Justice.

ACTION: 60-Day notice.

SUMMARY: The U.S. Marshals Service (USMS), Department of Justice (DOJ), will be submitting the following information collection request to the Office of Management and Budget (OMB) for review and approval in accordance with the Paperwork Reduction Act of 1995.

DATES: Comments are encouraged and will be accepted for 60 days until September 22, 2025.

FOR FURTHER INFORMATION CONTACT: If you have additional comments especially on the estimated public burden or associated response time, suggestions, or need a copy of the proposed information collection instrument with instructions or additional information, please contact Assistant Chief Karl Slazer/Management Support Division, US Marshals Service Headquarters, 1215 S Clark St., Ste. 10017, Arlington, VA 22202-4387, by telephone at 703-740-2316 or by email at karl.slazer@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The USMS is authorized to deputize selected persons to perform the functions of a Special Deputy U.S. Marshal whenever the law enforcement needs of the USMS so require and as designated by the Associate Attorney General pursuant to 28 CFR 0.19(a)(3). USMS Special Deputation files serve as a centralized record of the special deputations granted by the USMS to assist in tracking, controlling and monitoring the Special Deputation Program.

Overview of This Information Collection

1. Type of Information Collection: Revision of a currently approved collection.

2. The Title of the Form/Collection: Special Deputation Forms.

3. The agency form number, if any, and the applicable component of the Department sponsoring the collection:

a. USM-3A Application for Special Deputation/Sponsoring Federal Agency Information,

b. USM-3C Group Special Deputation Request.

4. Affect public who will be asked or required to respond, as well as the obligation to respond: State, Local, and Tribal Governments.

5. An estimate of the total number of respondents and the amount of time estimated for an average respondent to respond:

a. USM-3A Application for Special Deputation/Sponsoring Federal Agency Information:

i. It is estimated 8,000 respondents will utilize the form, and it will take each respondent approximately 10 minutes to complete the form.

b. USM-3C Group Special Deputation Request:

i. It is estimated 300 respondents will utilize the form, and it will take each respondent approximately 15 minutes to complete the form.

6. An estimate of the total annual burden (in hours) associated with the collection:

a. USM-3A Application for Special Deputation/Sponsoring Federal Agency Information:

i. The estimated public burden associated with this collection is 1,333 hours. It is estimated that applicants will take 10 minutes to complete a Form USM-3A. In order to calculate the public burden for Form USM-3A, USMS multiplied 10 by 8,000 and divided by 60 (the number of minutes in an hour), which equals 1,333 total annual burden hours.

b. USM-3C Group Special Deputation Request:

i. The estimated public burden associated with this collection is 75 hours. It is estimated that applicants will take 15 minutes to complete a Form USM-3C. In order to calculate the public burden for Form USM-3C, USMS multiplied 15 by 300 and divided by 60 (the number of minutes in an hour), which equals 75 total annual burden hours.

7. An estimate of the total annual cost burden associated with the collection, if applicable:

Total Burden Hours
Activity | Number of respondents | Frequency (annually) | Total annual responses | Time per response (mins) | Total annual burden (hours)
Ex: Survey (individuals or households) | 8,000 | 1 | 8,000 | 10 | 1,333
Ex: Survey (individuals or households) | 300 | 1 | 300 | 15 | 75
Unduplicated Totals | 8,300 |  | 8,300 |  | 1,408

8. Estimated Total Annual Cost Burden: $0.00.

If additional information is required contact: Darwin Arceo, Department Clearance Officer, United States Department of Justice, Justice Management Division, Policy and Planning Staff, Two Constitution Square, 145 N Street NE, 4W-218, Washington, DC.

Dated: July 22, 2025.
Darwin Arceo,
Department Clearance Officer for PRA, U.S. Department of Justice.

[FR Doc. 2025-13935 Filed 7-23-25; 8:45 am]

BILLING CODE 4410-04-P